DEPARTMENT OF COMMERCE

International Trade Administration

[C-570-966]

Drill Pipe from the People's Republic of China: Notice of Postponement of Preliminary Determination in the Countervailing Duty Investigation

AGENCY: Import Administration, International Trade Administration, Department of Commerce.

EFFECTIVE DATE: April 8, 2010.

FOR FURTHER INFORMATION CONTACT: Eric B. Greynolds, AD/CVD Operations, Office 3, Import Administration, International Trade Administration, U.S. Department of Commerce, 14th Street and Constitution Avenue, NW, Washington, DC 20230; telephone (202) 482-6071.

SUPPLEMENTARY INFORMATION:

Background

On January 20, 2010, the Department of Commerce (Department) initiated the countervailing duty investigation of drill pipe from the People's Republic of China. See Drill Pipe from the People's Republic of China: Initiation of Countervailing Duty Investigation, 75 FR 4345 (January 27, 2010) (Initiation). Currently, the preliminary determination is due no later than April 2, 2010.¹

¹ We note that the original deadline of the preliminary determination was March 26, 2010. However, as a result of the snowstorms that occurred in the Washington, D.C., area during the month of February 2010, this deadline was tolled 7 days pursuant to the Memorandum issued by the Deputy Assistant Secretary for Import Administration. See Memorandum to the Record from Ronald K Lorentzen, Deputy Assistant Secretary for Import Administration, regarding “Tolling of Administrative Deadlines As a Result of the Government Closure During the Recent Snowstorm,” dated February 12, 2010 (Tolling Memorandum) a public document on the record of this proceeding that is available in room 1117 of the Central Records Unit (CRU) of the main Commerce Building.

Postponement of Due Date for Preliminary Determination

Section 703(b)(1) of the Tariff Act of 1930, as amended (the Act), requires the Department to issue the preliminary determination in a countervailing duty investigation within 65 days after the date on which the Department initiated the investigation. However, if the Department concludes that the parties concerned in the investigation are cooperating and determines that the investigation is extraordinarily complicated, section 703(c)(1)(B) of the Act allows the Department to postpone making the preliminary determination until no later than 130 days after the date on which the administering authority initiated the investigation.

The Department has determined that the parties involved in the proceeding are cooperating and that the investigation is extraordinarily complicated. See section 703(c)(1)(B) of the Act. Specifically, the Department is currently investigating alleged subsidy programs involving loans, grants, income tax incentives, and the provision of goods or services for less than adequate remuneration. Due to the number and complexity of the alleged countervailable subsidy practices being investigated, it is not practicable to complete the preliminary determination of this investigation within the original time limit (i.e., by April 2, 2010). Therefore, in accordance with section 703(c)(1)(B) of the Act, we are fully extending the due date for the preliminary determination to no later than 137 days after the day on which the investigation was initiated.² However, as that date falls on a Saturday, the deadline for completion of the preliminary results is now June 7, 2010, the next business day.

² Normally, under section 703(c)(1)(B) of the Act, the Department extends the due date of a preliminary determination to no later than 130 days after the day on which the investigation was initiated. However, pursuant to the Tolling Memorandum, we are extending the due date of the preliminary determination to no later than 137 days after the day on which the Department initiated the investigation.

This notice is issued and published pursuant to section 703(c)(2) of the Act.

Dated: April 2, 2010.
John M. Andersen,
Acting Deputy Assistant Secretary for Import Administration.

[FR Doc. 2010-8056 Filed 4-7-10; 8:45 am]

BILLING CODE 3510-DS-S